DEPARTMENT OF COMMERCE

International Trade Administration

(A-475-811, A-588-831, C-475-812)

Grain-Oriented Electrical Steel From Italy and Japan: Final Results of Sunset Reviews and Revocation of Orders

AGENCY: Import Administration, International Trade Administration, Department of Commerce.

SUMMARY: On February 1, 2006, the Department of Commerce (“the Department”) initiated the sunset reviews of the antidumping duty (“AD”) orders on grain-oriented electrical steel (“GOES”) from Italy and Japan and of the countervailing duty (“CVD”) order on GOES from Italy. (See 70 FR 5243). Because the domestic interested parties did not participate in these sunset reviews, the Department is revoking these AD and CVD orders.

EFFECTIVE DATE: March 14, 2006.

FOR FURTHER INFORMATION CONTACT: Darla Brown or Brandon Farlander, Import Administration, International Trade Administration, U.S. Department of Commerce, 14th Street and Constitution Avenue NW, Washington, DC 20230; telephone: (202) 482-2849 or (202) 482-0182, respectively.

SUPPLEMENTARY INFORMATION:

Background

On June 7, June 10, and August 12, 1994, respectively, the Department issued the CVD order on GOES from Italy (59 FR 29414) and the AD orders on GOES from Japan (59 FR 29984) and Italy (59 FR 41431). On December 1, 1999, the Department initiated sunset reviews on these orders and later published its notice of continuation of the AD and CVD orders. See Continuation of Antidumping Duty Orders and Countervailing Duty Order: Grain-Oriented Silicon Electrical Steel From Italy and Japan, 66 FR 14889 (March 14, 2001) (“GOES Continuation”). On February 1, 2006, the Department initiated the second sunset reviews of these orders.

We did not receive a notice of intent to participate from domestic interested parties in any of these sunset reviews by the deadline dates. See 19 CFR 351.218(d)(1)(iii)(A). As a result, the Department determined that no domestic interested party intends to participate in these sunset reviews, and on February 21, 2006, we notified the International Trade Commission, in writing, that we intended to issue final determinations revoking these AD and CVD orders. See 19 CFR 351.218(d)(1)(iii)(B)(2).

Scope of the Orders

The merchandise subject to these orders includes GOES, which is a flat-rolled alloy steel product containing by weight at least 0.6 percent of silicon, not more than 0.08 percent of carbon, not more than 1.0 percent of aluminum, and no other element in an amount that would give the steel the characteristics of another alloy steel, of a thickness of no more than 0.56 millimeters, in coils of any width, or in straight lengths which are of a width measuring at least 10 times the thickness. The products covered by these orders are provided for under the following item numbers of the Harmonized Tariff Schedule of the United States (“HTSUS”): 7225.10.0030, 7226.10.1030, 7226.10.5015, and 7226.10.5065. Although the HTSUS subheadings are provided for convenience and customs purposes, the written description of the scope of these orders is dispositive.

Determination to Revoke

Pursuant to section 751(c)(3)(A) of the Tariff Act of 1930, as amended (“the Act”) and 19 CFR 351.218(d)(1)(iii)(B)(3), if no domestic interested party files a notice of intent to participate, the Department shall, within 90 days after the initiation of the review, issue a final determination revoking the order. Because the domestic interested parties did not file a notice of intent to participate in these sunset reviews, the Department finds that no domestic interested party is participating in these sunset reviews. Therefore, consistent with 19 CFR 351.222(i)(2)(i) and section 751(c)(6)(A)(iii) of the Act, we are revoking these AD and CVD orders effective March 14, 2006, the fifth anniversary of the date the Department published the continuation of the AD and CVD orders. (See GOES Continuation.)

Effective Date of Revocation

Pursuant to sections 751(c)(3)(A) and 751(c)(6)(A)(iii) of the Act and 19 CFR 351.222(i)(2)(i), the Department will instruct U.S. Customs and Border Protection to terminate the suspension of liquidation of the merchandise subject to these orders entered, or withdrawn from warehouse, on or after March 14, 2006. Entries of subject merchandise prior to the effective date of revocation will continue to be subject to suspension of liquidation and AD and CVD deposit requirements. The Department will complete any pending administrative reviews of these orders and will conduct administrative reviews of subject merchandise entered prior to the effective date of revocation in response to appropriately filed requests for review.

These five-year (sunset) reviews and notice are issued and published in accordance with sections 751(c) and 777(i)(1) of the Act.

Dated: March 22, 2006.
Stephen J. Claeys,
Acting Assistant Secretary for Import Administration.

[FR Doc. E6-4477 Filed 3-27-06; 8:45 am]

BILLING CODE 3510-DS-S